DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (http://www.treasury.gov/ofac).

Notice of OFAC Actions

On June 5, 2018, OFAC determined that the property and interests in property subject to U.S. jurisdiction of the following persons are blocked under the relevant sanctions authority listed below.

Individuals

1. GONZALEZ RODRIGUEZ, Diosde, Bogota, Colombia; DOB 18 Apr 1957; POB Maripi, Boyaca, Colombia; citizen Colombia; Gender Male; Cedula No. 4196782 (Colombia) (individual) [SDNTK] (Linked To: INVERSIONES DE OCCIDENTE LTDA.). Designated pursuant to section 805(b)(3) of the Foreign Narcotics Kingpin Designation Act (“Kingpin Act”), 21 U.S.C. 1904(b)(3), for being directed by, or acting for or on behalf of, the RINCON CASTILLO DRUG TRAFFICKING ORGANIZATION.

2. RINCON CASTILLO, Gustavo, Bogota, Colombia; DOB 03 Dec 1955; POB Maripi, Boyaca, Colombia; citizen Colombia; Gender Male; Cedula No. 4157507 (Colombia); Passport AO604019 (Colombia) (individual) [SDNTK] (Linked To: SOCIEDAD ESMERALDIFERA DE MARIPI LTDA.). Designated pursuant to section 805(b)(3) of the Kingpin Act, 21 U.S.C. 1904(b)(3), for being directed by, or acting for or on behalf of, the RINCON CASTILLO DRUG TRAFFICKING ORGANIZATION.

3. RINCON CASTILLO, Emerio, Simijaca, Cundinamarca, Colombia; DOB 04 Apr 1954; POB Caldas, Boyaca, Colombia; citizen Colombia; Gender Male; Cedula No. 4157489 (Colombia) (individual) [SDNTK]. Designated pursuant to section 805(b)(3) of the Kingpin Act, 21 U.S.C. 1904(b)(3), for being directed by, or acting for or on behalf of, the RINCON CASTILLO DRUG TRAFFICKING ORGANIZATION.

4. RINCON CASTILLO, Salvador, Maripi, Boyaca, Colombia; DOB 25 Aug 1952; POB Maripi, Boyaca, Colombia; citizen Colombia; Gender Male; Cedula No. 4157332 (Colombia) (individual) [SDNTK] (Linked To: COMERCIALIZADORA INTERNACIONAL AGRICOLA Y GANADERA RINCON CASTILLO LIMITADA). Designated pursuant to section 805(b)(2) of the Kingpin Act, 21 U.S.C. 1904(b)(2), for materially assisting in, or providing financial or technological support for or to, or providing goods or services in support of, the international narcotics trafficking activities of the RINCON CASTILLO DRUG TRAFFICKING ORGANIZATION.

5. RINCON CASTILLO, Gilberto, Bogota, Colombia; DOB 08 Jan 1961; POB Maripi, Boyaca, Colombia; citizen Colombia; Gender Male; Cedula No. 4157904 (Colombia); Passport AM461080 (Colombia) (individual) [SDNTK]. Designated pursuant to section 805(b)(2) of the Kingpin Act, 21 U.S.C. 1904(b)(2), for materially assisting in, or providing financial or technological support for or to, or providing goods or services in support of, the international narcotics trafficking activities of the RINCON CASTILLO DRUG TRAFFICKING ORGANIZATION.

6. RINCON CASTILLO, Pedro Nel (a.k.a. “Pedro Orejas”), Ibague, Colombia; DOB 12 Feb 1967; POB Maripi, Boyaca, Colombia; citizen Colombia; Gender Male; Cedula No. 79416383 (Colombia); Passport 79416383 (Colombia) (individual) [SDNTK] (Linked To: ESMERALDAS COLOMBIANAS CERRO GUALILO LTDA. C.I.). Identified pursuant to section 805(b)(1) of the Kingpin Act, 21 U.S.C. 1904(b)(1), as a significant foreign narcotics trafficker.

7. RINCON CASTILLO, Omar Josue, Bogota, Colombia; DOB 16 Dec 1969; POB Caldas, Boyaca, Colombia; citizen Colombia; Gender Male; Cedula No. 79488576 (Colombia) (individual) [SDNTK] (Linked To: DISTRIBUIDORA Y ELECTRICOS RINCON LTDA.; Linked To: ESMERALDAS NARAPAY LTDA). Designated pursuant to section 805(b)(2) of the Kingpin Act, 21 U.S.C. 1904(b)(2), for materially assisting in, or providing financial or technological support for or to, or providing goods or services in support of, the international narcotics trafficking activities of the RINCON CASTILLO DRUG TRAFFICKING ORGANIZATION.

8. SOLANO CHAVES, Julio Rodolfo, Bogota, Colombia; DOB 17 Jan 1959; POB Pauna, Boyaca, Colombia; citizen Colombia; Gender Male; Cedula No. 19336948 (Colombia) (individual) [SDNTK]. Designated pursuant to section 805(b)(3) of the Kingpin Act, 21 U.S.C. 1904(b)(3), for being directed by, or acting for or on behalf of, the RINCON CASTILLO DRUG TRAFFICKING ORGANIZATION.

9. TRIANA ROMERO, Horacio de Jesus, Maripi, Boyaca, Colombia; DOB 21 Nov 1956; POB Maripi, Boyaca, Colombia; citizen Colombia; Gender Male; Cedula No. 4157533 (Colombia) (individual) [SDNTK]. Identified pursuant to section 805(b)(1) of the Kingpin Act, 21 U.S.C. 1904(b)(1), as a significant foreign narcotics trafficker and designated pursuant to section 805(b)(2) of the Kingpin Act, 21 U.S.C. 1904(b)(2), for materially assisting in, or providing financial or technological support for or to, or providing goods or services in support of, the international narcotics trafficking activities of the RINCON CASTILLO DRUG TRAFFICKING ORGANIZATION.

Entities

1. COMERCIALIZADORA INTERNACIONAL AGRICOLA Y GANADERA RINCON CASTILLO LIMITADA, Carrera 8A No. 2-38, Chiquinquira, Boyaca, Colombia; NIT #900345938-9 (Colombia) [SDNTK].

2. DISTRIBUIDORA Y ELECTRICOS RINCON LTDA., Carrera 68 No. 175-55 Ca 1, Bogota, Colombia; NIT #900132885-2 (Colombia) [SDNTK].

3. ESMERALDAS COLOMBIANAS CERRO GUALILO LTDA. C.I. (a.k.a. GUALILO LTDA. C.I.), Transversal 46 No. 152-46 Ofc. 276, Bogota, Colombia; NIT #830124149-2 (Colombia) [SDNTK].

4. ESMERALDAS NARAPAY LTDA, Transversal 40 No. 150-46 Ofc. 259, Bogota, Colombia; NIT #900022457-1 (Colombia) [SDNTK].

5. INVERSIONES DE OCCIDENTE LTDA., Carrera 14 No. 104-10, Bogota, Colombia; NIT #830071741-4 (Colombia) [SDNTK].

6. RINCON CASTILLO DRUG TRAFFICKING ORGANIZATION, Maripi, Boyaca, Colombia [SDNTK] (Linked To: ZULIANA DE ESMERALDAS C.I. S.A.S.).

7. SOCIEDAD ESMERALDIFERA DE MARIPI LTDA. (a.k.a. SOESMA LTDA.), Carrera 41 A No. 162-09, Bogota, Colombia; NIT #830076758-1 (Colombia) [SDNTK].

8. ZULIANA DE ESMERALDAS C.I. S.A.S. (f.k.a. ZULIANA DE ESMERALDAS LTDA. C.I.), Carrera 7 No. 12 C-28, Bogota, Colombia; NIT #900496677-9 (Colombia) [SDNTK].

Dated: June 5, 2018.
Andrea M. Gacki,
Acting Director, Office of Foreign Assets Control.

[FR Doc. 2018-12412 Filed 6-8-18; 8:45 am]

BILLING CODE 4810-AL-P